DEPARTMENT OF HEALTH AND HUMAN SERVICES

Administration for Children and Families

Submission for OMB Review; “State SNAP Agency NDNH Matching Program Performance Report” (OMB No.: 0970-0464)

AGENCY: Office of Child Support Enforcement, Administration for Children and Families, HHS.

ACTION: Request for public comment.

SUMMARY: The Office of Child Support Enforcement (OCSE), Administration for Children and Families (ACF) is requesting the federal Office of Management and Budget (OMB) approve the “State SNAP Agency NDNH Matching Program Performance Report,” with minor revisions, for an additional three years. State agencies administering their Supplemental Nutrition Assistance Program (SNAP) provide the annual performance report to OCSE in accordance with the computer matching agreement between state SNAP agencies and OCSE. The current OMB approval expires on February 28, 2022.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: State agencies administering SNAP are mandated to participate in a computer matching program with the federal OCSE. The matching program compares SNAP applicant and recipient information with employment and wage information maintained in the National Directory of New Hires (NDNH). The outcomes of the compared information help state SNAP agencies with verifying and determining an individual's benefit eligibility. To receive NDNH information, state agencies enter into a computer matching agreement and adhere to its terms and conditions, including providing OCSE with annual performance outcomes that are attributable to the use of NDNH information.

To fulfill OMB requirements, OCSE periodically reports performance measurements demonstrating how the use of information in the NDNH supports OCSE's strategic mission, goals, and objectives. OCSE will provide the annual SNAP performance outcomes to OMB.

Respondents: State SNAP Agencies.

Annual Burden Estimates
Instrument | Total number of respondents | Number of responses per respondent | Average burden hours per response | Total burden hours
SNAP Agency Performance Reporting Tool and Instructions | 53 | 1 | 0.83 | 43.99

Estimated Total Annual Burden Hours: 43.99.

Authority: 42 U.S.C. 653(j)(10); 5 U.S.C. 552a; and Public Law 111-352.

Mary B. Jones,
ACF/OPRE Certifying Officer.

[FR Doc. 2021-26324 Filed 12-3-21; 8:45 am]

BILLING CODE 4184-41-P